DEPARTMENT OF TRANSPORTATION

Federal Aviation Administration

14 CFR Part 71

[Docket No. FAA-2012-1296; Airspace Docket No. 09-AWA-1]

RIN 2120-AA66

Proposed Modification of Class B Airspace; Minneapolis, MN

AGENCY: Federal Aviation Administration (FAA), DOT.

ACTION: Notice of proposed rulemaking (NPRM).

SUMMARY: This action proposes to modify the Minneapolis, MN, Class B airspace area to contain large turbine-powered aircraft conducting published instrument procedures at the Minneapolis-St. Paul International Airport (MSP), MN, within Class B airspace. The FAA is proposing this action to ensure containment of aircraft being vectored to and conducting Simultaneous Instrument Landing System (SILS) approaches to parallel Runways 12L/R and 30L/R, aircraft being vectored to and conducting approaches to Runway 35, and aircraft being re-sequenced from approaches to Runway 35 to approaches to Runway 30L. This action would further support the FAA's national airspace redesign goal of optimizing terminal and en route airspace areas to enhance safety, improving the flow of air traffic, and reducing the potential for near midair collision in the terminal area.

DATES: Comments must be received on or before April 15, 2013.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2012-1296 and Airspace Docket No. 09-AWA-1 at the beginning of your comments. You may also submit comments through the Internet at http://www.regulations.gov.

FOR FURTHER INFORMATION CONTACT: Colby Abbott, Airspace Policy and ATC Procedures, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2012-1296 and Airspace Docket No. 09-AWA-1) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to Docket Nos. FAA-2012-1296 and Airspace Docket No. 09-AWA-1.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov.

You may review the public docket containing the proposal, any comments received and any final disposition in person in the Dockets Office (see ADDRESSES section for address and phone number) between 9:00 a.m. and 5:00 p.m., Monday through Friday, except Federal holidays. An informal docket may also be examined during normal business hours at the office of the Central Service Center, Operations Support Group, Federal Aviation Administration, 2601 Meacham Blvd. Fort Worth, TX 76137.

Persons interested in being placed on a mailing list for future NPRMs should contact the FAA's Office of Rulemaking, (202) 267-9677, for a copy of Advisory Circular No. 11-2A, Notice of Proposed Rulemaking Distribution System, which describes the application procedure.

Background

In 1974, the FAA issued a final rule which established the Minneapolis, MN, Terminal Control Area (TCA) (38 FR 34991). As a result of the Airspace Reclassification final rule (56 FR 65638), which became effective in 1993, the terms “terminal control area” and “airport radar service area” were replaced by “Class B airspace area,” and “Class C airspace area,” respectively. The primary purpose of a Class B airspace area is to reduce the potential for midair collisions in the airspace surrounding airports with high density air traffic operations by providing an area in which all aircraft are subject to certain operating rules and equipment requirements. FAA directives require Class B airspace areas be designed to contain all instrument procedures, and that air traffic controllers vector aircraft as appropriate to remain within Class B airspace after entry.

The Minneapolis Class B airspace area has only been amended once, in 2006, since being established to address the significant growth in aircraft operations and the construction of Runway 17/35 to accommodate the increased operations at that time. That amendment action modified the Class B airspace to (1) accommodate aircraft conducting SILS approaches to parallel Runways 12L/R and 30L/R, and (2) provide protection for aircraft conducting instrument approaches to MSP's new Runway 35.

Since the 2006 Minneapolis Class B airspace amendment action, changes to MSP vector patterns (traffic flows) and aircraft descent profiles, and the realization of a miscalculated Class B airspace boundary configuration have resulted in unanticipated and unintended Class B airspace exits. There are two areas in the existing Minneapolis Class B airspace extensions located northwest and southeast of MSP where aircraft on south downwind flight paths to MSP Runways 12R and 30L operate on, or in close proximity to, the existing Class B airspace boundaries. These downwind “legs” must be far enough away from the associated final approach course (FAC) to ensure that aircraft have enough airspace to execute a standard rate turn from the downwind leg to a point at which they are established on a 30° FAC intercept heading. This 30° intercept heading must be achieved at least three miles from the FAC. On the north side of the final approach areas (for Runways 12L and 30R), the downwind legs are more than 1.5 nautical miles (NM) from the Class B airspace boundary; however, on the south side of the final approach areas (for Runways 12R and 30L), the downwind legs are less than 0.65 NM from the Class B airspace boundary. The southern boundaries of the existing Class B airspace extensions located northwest and southeast of MSP require a one NM expansion further south, at a minimum, to ensure large turbine-powered aircraft flying the downwind legs of the southern traffic patterns supporting Runways 12R and 30L instrument procedures are safely contained within Class B airspace.

Also, there are three areas of the Minneapolis Class B airspace where arriving aircraft “drop” beneath the floor of Class B airspace while descending for sequencing to closely-spaced, adjacent approaches at MSP. Since 2006, the fleet mix of aircraft operating at MSP has shifted from mostly rapidly descending DC-9s and B727s, to A320s, B757s, and other turbojet aircraft with more “efficient wings” that require a longer time to descend. As a result, the distance at which these slower descending aircraft must start a descent is located farther from MSP because the points at which air traffic control (ATC) must ensure the arriving aircraft reach 4,000 feet or 5,000 feet mean sea level (MSL), in order to commence the various instrument approach procedures, has not changed. This requirement to descend arriving large turbine-powered aircraft earlier often results in aircraft exiting the floor of existing Class B airspace.

Finally, a portion of the Runway 35 FAC, extended, is not contained entirely within the existing Class B airspace. Between 20 NM and 25 NM from the Minneapolis-St. Paul International (Wold-Chamberlain) Airport DME Antenna (I-MSP DME), the Runway 35 FAC is outside the boundary of existing Class B airspace; whereas, between 25 NM and 30 NM from the I-MSP DME, the Runway 35 FAC is inside the boundary of existing Class B airspace. As a result, aircraft turned on to the Runway 35 FAC, extended, at 6,000 feet MSL will be within Class B airspace between 25 NM and 30 NM from the I-MSP DME, but will be outside Class B airspace, beneath the existing 7,000-foot Class B airspace floor in that area between 20 NM and 25 NM from the I-MSP DME. Similarly, aircraft that are initially positioned for an approach to Runway 35, but then re-sequenced to Runway 30L, are also at risk of exiting the Class B airspace area. In this case, the typical flight path for aircraft being re-sequenced from Runway 35 to Runway 30L passes under the existing Class B airspace where, currently, the floor of the existing Class B airspace subarea is 7,000 feet MSL.

The proposed Minneapolis Class B airspace modifications described in this NPRM are intended to address these issues. For calendar year 2011, MSP ranked number 12 in the list of the “50 Busiest FAA Airport Traffic Control Towers,” with over 435,000 total airport operations. Additionally, the calendar year 2011 passenger enplanement data ranked MSP as number 16 among Commercial Service Airports, with 15,895,653 passenger enplanements (an increase of 2.47% from the previous year).

Pre-NPRM Public Input

An Ad Hoc Committee, formed in 2010, reviewed the Minneapolis Class B airspace and provided recommendations to the FAA about the proposed design. The Ad Hoc Committee was chaired by the Minnesota Soaring Club representative with participants representing aviation interests in the greater Twin Cities area including representatives of air carrier, seaplane, ultralight, parachute, aerobatic, sailplane, experimental aircraft, and general aviation interests. The Ad Hoc Committee met three times; May 15, 2010; June 15, 2010; and July 13, 2010.

In addition, as announced in the Federal Register of January 5, 2011 (76 FR 489), four fact-finding informal airspace meetings were held; the first on March 18, 2011, at the Metropolitan Airports Commission in Minneapolis, MN; the second on March 19, 2011, at the In Flight Pilot Training, LLC., in Eden Prairie, MN; the third on March 21, 2011, at the Minnesota Army National Guard, Aviation Facility, in St. Paul, MN; and the fourth on March 22, 2011, at the Metropolitan Airports Commission in Minneapolis, MN. These meetings provided interested airspace users with an opportunity to present their views and offer suggestions regarding the planned modifications to the Minneapolis Class B airspace area.

The navigation aid radial information contained in the Ad Hoc Committee recommendations, the informal airspace meeting comments, and the proposal discussions that follow is presented relative to Magnetic North for ease of understanding. However, the navigation aid radial information contained in the regulatory text legal description is presented relative to both True North and Magnetic North.

All substantive airspace recommendations made by the Ad Hoc Committee and public comments received as a result of the informal airspace meetings were considered in developing this proposal.

Discussion of Ad Hoc Committee Recommendations

The FAA prepared a preliminary design of the proposed Minneapolis Class B airspace modifications to illustrate the need for change and to serve as a basis for the Ad Hoc Committee's review. In general, the preliminary design featured a proposal to expand the southern boundaries of the existing Class B airspace extensions located northwest and southeast of MSP by approximately one NM to the south; lower the floor of portions of existing Class B airspace abeam both sides of the existing Class B airspace extensions by 1,000 feet MSL; combine the existing Class B airspace subareas located south and southeast of MSP into one subarea, and; expand the boundary of existing Class B airspace south of MSP from the Gopher VHF omnidirectional range (VOR)/tactical air navigation (VORTAC) antenna (GEP) 160° radial to the GEP 157° radial.

The Ad Hoc Committee reported that most of the proposed Minneapolis Class B airspace area changes had little or no impact on the aviation community represented by the Ad Hoc Committee; however, they felt that the proposed modifications near the Stanton Airfield (SYN) would impact the Minnesota Soaring Club and Stanton Sport Aviation operations. The Ad Hoc Committee's report provided to the FAA contained six recommendations for consideration regarding the FAA's proposed modification of the Minneapolis Class B airspace area.

The Ad Hoc Committee recommended limiting the expansion of the existing Class B airspace located south of MSP, between 25 NM and 30 NM from the I-MSP DME, by defining the boundary using the GEP 158° radial instead of the initially proposed GEP 157° radial. They believed this change would better align the Class B airspace boundary with easily identifiable road junctions on the visual flight rules (VFR) charts and allow pilots of glider and powered aircraft, which are not Global Positioning System (GPS) equipped, to identify the Class B airspace boundary visually.

The FAA incorporated the Ad Hoc Committee's recommendation and defined the portion of the proposed Class B airspace boundary addressed above (proposed Area H) using the GEP 158° radial. Defining this portion of the proposed boundary from the GEP 157° radial to the GEP 158° radial would reduce the Class B airspace subarea by 0.8 NM laterally, but still provide containment of large turbine-powered aircraft within Class B airspace between 20 NM and 30 NM from the I-MSP DME.

The Ad Hoc Committee further recommended the FAA consider using a north-south aligned boundary to define the proposed GEP 158° radial boundary of the Class B airspace located south of MSP, between 25 NM and 30 NM from the I-MSP DME, in lieu of the discussion above. They thought this would more effectively shape the Class B airspace subarea boundary and minimize the Class B airspace expansion towards Stanton Airfield (SYN), as compared to the boundary being aligned using GEP radials. They noted this change would naturally shape the proposed Class B airspace wider towards MSP and minimize the movement of the southern portion of the boundary towards SYN.

The FAA notes that there are no navigation aids available in the MSP terminal area whose position would provide a significantly improved north-south alignment of the proposed boundary under discussion. Absent prominent landmarks being available where needed, to define a north-south aligned boundary, the FAA also considered using geographic references (latitude/longitude) to define the boundary. This alternative was also discounted because pilots of glider and powered aircraft, which are not GPS equipped, operating at SYN would not be able to easily identify the Class B airspace boundary and would risk further airspace incursions. Therefore, this proposal would define the boundary being discussed for the proposed Class B airspace Area H using the GEP 158° radial.

The Ad Hoc Committee also recommended the FAA consider moving the western boundary of the existing Class B airspace, located south of MSP, two degrees east by using the GEP 168° radial to define the boundary. The committee stated the two degree boundary movement would reduce the amount of Class B airspace with a 6,000-foot MSL floor that gliders operating out of SYN would have to stay below to clear.

This recommendation to change the existing GEP 170° radial to the GEP 168° radial to define the existing boundary of Class B airspace located south of MSP would affect two air traffic flows for Runway 35 arrivals and result in large turbine-powered aircraft not being contained within Class B airspace as they are today. If the committee's change was incorporated, the large turbine-powered aircraft inbound to MSP flying the TWOLF Standard Terminal Arrival (STAR) procedure from the south/southwest would fly, on average, an additional three miles in the very same airspace that nonparticipating VFR aircraft are flying in before they entered the protection of the Class B airspace area. Additionally, the large turbine-powered aircraft already contained in Class B airspace, flying a left downwind (southbound) traffic pattern to intercept Runway 35 approach procedures, would exit Class B airspace when the downwind leg of the traffic pattern extended beyond 20 NM from the I-MSP DME. The downwind leg of the traffic pattern to Runway 35 is typically five to seven miles west of the FAC, but the GEP 168° radial is only 4 miles west of the FAC. When an aircraft flying at 6,000 feet MSL on a left downwind to Runway 35 extends beyond 20 NM from the I-MSP DME, it would exit Class B airspace beneath the existing Class B airspace subarea with a 7,000-foot MSL floor, and again be flying in the same airspace used by nonparticipating VFR aircraft before re-entering Class B airspace after being turned-on to the base leg of the traffic pattern in preparation of intercepting the Runway 35 FAC, extended. Both scenarios highlight the unintended consequences that would result from moving the western boundary of the existing Class B airspace subarea located south of MSP two degrees to the east and the counterproductive result to this proposed action.

The Ad Hoc Committee was concerned about the availability of airspace north of SYN. They recommended the FAA establish only the portion of the proposed Class B airspace located south of MSP, west of the GEP 158° radial, with a 6,000-foot MSL floor and retain the existing 7,000-foot MSL floor in the remainder of the existing Class B airspace north of SYN. They further recommended that if more Class B airspace was required north of SYN, the FAA lower the portion of existing Class B airspace from 7,000 feet MSL to 6,000 feet MSL in the area necessary in the Class B airspace cutout north of SYN. The committee wanted to retain the majority of airspace available north of SYN with a 7,000-foot MSL ceiling.

The FAA evaluated this recommendation and determined the proposed Class B airspace located south of MSP and north of SYN (proposed Area H) is necessary with a 6,000-foot MSL floor. Aircraft that are inbound to Runway 35, but then re-sequenced to Runway 30L, are often vectored northeastward through the proposed Class B airspace Area H subarea at 6,000 feet MSL or higher, depending on traffic volume. Typically, aircraft arrivals inbound from the south are re-sequenced to Runway 30L when the traffic flows from the north and southwest saturate the Runway 35 FAC. As the number of aircraft sequenced to Runway 35 increases, the point at which aircraft from the south must be re-sequenced and turned to Runway 30L extends farther to the south; requiring the availability of Class B airspace with a 6,000-foot MSL floor. The proposed modification to establish the new Class B airspace Area H with a 6,000-foot MSL floor would ensure inbound aircraft that are at or descending to 6,000 feet MSL do not exit Class B airspace when transitioning from a Runway 35 arrival to a Runway 30L arrival.

However, in response to the second part of the Ad Hoc Committee's recommendation to minimize the amount of Class B airspace north of SYN being lowered, the initially proposed 25 NM boundary of Class B airspace being lowered to 6,000 feet MSL could be reduced to the 24 NM arc from the I-MSP DME with the floor of the remaining portion of existing Class B airspace between the 24 NM and 25 NM arcs from the I-MSP DME retained at 7,000 feet MSL. The net effect would be to limit the amount of proposed Class B airspace north of SYN being lowered to 6,000 feet MSL by moving the proposed boundary of that subarea one NM further north of SYN. This change to the proposal would still provide the Class B airspace necessary to contain large turbine-powered aircraft within Class B airspace when being re-sequenced from Runway 35 to Runway 30L, but leaves the Class B airspace overhead SYN unchanged.

The Ad Hoc Committee's final recommendation to the FAA was to consider moving the existing Class B airspace boundary over SYN north or eliminating the current 7,000-foot MSL Class B airspace floor altogether. It felt that flight track data shown to it indicated that the floor at the 25 NM line over SYN could be either moved northward or perhaps eliminated.

In this proposal, the FAA moved the 25 NM boundary of proposed Class B airspace to be lowered to 6,000 feet MSL one NM north to the 24 NM arc from the I-MSP DME in accordance with the Ad Hoc Committee's previous recommendation. The existing Class B airspace north of SYN that falls outside 24 NM from the I-MSP DME would remain unchanged. The FAA believes the minimal number of flight tracks documented below the existing Class B airspace between 24 NM and 25 NM from the I-MSP DME below 7,000 feet MSL can be managed with ATC-assigned course changes.

Discussion of Informal Airspace Meeting Comments

The FAA received written comments from thirteen individuals and organizations as a result of the informal airspace meetings. Seven commenters found the FAA's presentation helpful in understanding the requirement and issues, and clearly demonstrated an understanding of all stakeholders' views. The remaining commenters provided comments opposing various aspects of the proposed Minneapolis Class B airspace area modification. The following discussion addresses the substantive comments received.

One commenter questioned the reason for the proposed Class B airspace modification and submitted that the proposed modifications would further restrict General Aviation (GA) freedom of flight around the Twin Cities area, especially near Airlake Airport (LVN). He stated that the new airspace design might cause confusion and more airspace incursion violations, suggesting that the FAA “keep things the same” and have fewer regulations.

The FAA is proposing this action to ensure aircraft being vectored and conducting SILS approaches to MSP parallel Runways 12L/R and 30L/R, aircraft being vectored to and conducting approaches to Runway 35, and aircraft being re-sequenced from approach procedures for Runway 35 to approach procedures for Runway 30L are contained within Class B airspace. The FAA does not agree with the commenter that the proposed modification will further restrict GA freedom of flight, especially near LVN. The closest proposed Class B airspace modification to LVN by this action is approximately six miles southeast of the airport; the proposed lowering of Class B airspace (proposed Area H) from 7,000 feet MSL to 6,000 feet MSL. LVN is located approximately 14 NM south of the I-MSP DME, between the 12 NM and 20 NM I-MSP DME arcs where the Class B airspace floor would remain unchanged at 4,000 feet MSL. Additionally, the navigation aids that currently define the various Class B airspace boundaries would continue to define the modified boundaries. The FAA believes the proposed Class B airspace modifications have been clearly developed to prevent confusion, and would not contribute to unintentional airspace incursion violations.

One commenter expressed concern with the regulations that allow aircraft without transponders (sailplanes and gliders) to operate within the 30 NM Mode C veil around MSP, outside the Minneapolis Class B airspace area, because ATC may not be able to see the sailplanes and gliders on radar or advise other aircraft operating in the same area of their presence. The commenter stated that in the interest of safety, the FAA should look very seriously at the no-transponder exception allowing aircraft without a transponder to operate near congested Class B airspace areas.

The commenter is seeking a change to Title 14 Code of Federal Regulations (14 CFR) section 91.215, ATC transponder and altitude reporting equipment and use. This regulation, in part, provides an “exception” to the transponder requirement for aircraft not originally certified with an engine-driven electrical system to conduct operations within the 30 NM Mode C veil around Class B airspace primary airports, outside Class B airspace without a transponder. This suggestion is beyond the scope of this action. The MSP Terminal Radar Approach Control (TRACON) controllers are aware that gliders and sailplanes are operating near SYN without transponders and will continue to provide traffic advisories, to the extent possible, to VFR aircraft under their control that are operating near SYN.

One commenter stated that the Class B airspace modifications presented in the March 22, 2011, meeting offered some relief for SYN glider flights compared to previous versions, but that there was increased and unnecessary complexity created with the 24 NM to 25 NM Class B airspace subarea retained with a 7,000-foot MSL floor. A second commenter argued the same point, stating that the proposed modification creates an alleyway of airspace that will confuse pilots and may result in inadvertent airspace incursions. The commenters suggested that the Minneapolis Class B airspace should either end at 24 NM between the GEP 158° radial and the Flying Cloud VOR/DME navigation aid (FCM) 123° radial to simplify navigation for most gliders, or utilize a more consistent Class B airspace floor in this area preserving the 7,000-foot MSL floor directly over SYN. The first commenter also mentioned that the flight path summaries briefed at the informal airspace meetings did not show or take into account the non-transponder equipped gliders operating in the vicinity of SYN adjacent to the current MSP Class B airspace.

The FAA reviewed the Class B airspace subarea with a 7,000-foot MSL floor located between 24 NM and 25 NM from the I-MSP DME, from the GEP 158° radial to the FCM 123° radial, addressed by the commenters and incorporated their suggestion to remove it from the proposal to reduce the perceived airspace complexity and confusion for users in the area north of SYN. As a result, inbound aircraft transitioning from Runway 35 to Runway 30L will be issued ATC- assigned headings to keep them within the proposed Class B airspace Area H between 20 NM and 24 NM from the I-MSP DME.

Additionally, the FAA acknowledges that the flight path summaries presented at the informal airspace meetings did not include non-transponder equipped aircraft (gliders) since track recording are only possible on transponder-equipped aircraft. This limitation underscores the need and importance for Minneapolis Class B airspace to be designed in such a way that it not only contains large turbine-powered aircraft arriving and departing MSP or nonparticipating VFR aircraft cleared into the Class B airspace by the MSP TRACON, but also segregates aircraft operating within the Class B airspace and those operating outside the Class B airspace, especially those not visible to ATC radar.

One commenter suggested that lowering the Class B airspace located north of SYN, from 7,000 feet MSL to 6,000 feet MSL, should be limited to the airspace west of the GEP 158° radial and the remainder of the Class B airspace subarea left unchanged with a 7,000-foot MSL floor. The commenter argued that this would allow continued upwind operations of glider training flights north of SYN.

As mentioned previously, the proposed Class B airspace located north of SYN between 20 NM and 24 NM from the I-MSP DME is necessary with a 6,000-foot MSL floor to ensure aircraft inbound to Runway 35, but then re-sequenced to Runway 30L are contained within Class B airspace. The proposed Class B airspace Area H would ensure aircraft that are at or descending to 6,000 feet MSL do not exit Class B airspace when transitioning from a Runway 35 arrival to a Runway 30L arrival. However, this action also proposes to return the Class B airspace located north of SYN outside 24 NM from the I-MSP DME between the GEP 158° and FCM 123° radials to the NAS. This airspace return is expected to continue supporting upwind operations of glider training flights north of SYN, as well as other nonparticipating VFR aircraft flying in the vicinity of SYN.

One commenter suggested that the FAA change nine of the Minneapolis Class B airspace boundary segments to align them with prominent geographic landmarks such as rivers and freeways, rather than the existing DME distance and VOR radials. A list of specific boundary changes were recommended and provided for the airspace boundaries located within a short distance (less than one mile) of available landmarks, and where the realignments would keep MSP traffic contained within Class B airspace. The commenter argued that the recommended changes would enhance safety by improving situational awareness for VFR traffic operating below Class B airspace subareas; stating that eliminating the need [for pilots] to keep eyes inside the cockpit would improve traffic scans and would reduce the risk of mid-air collisions.

Using prominent geographic features (landmarks), when they are easily identifiable and coincide with proposed airspace configuration modifications, help identify Class B airspace boundaries and enhances the situational awareness for VFR pilots flying in the vicinity of Class B airspace areas. The scope of this proposed modification is to modify the Minneapolis Class B airspace areas where aircraft containment has been compromised so as to minimize airspace impacts on nonparticipating VFR aircraft operating in the vicinity of the Class B airspace. There are not any easily identifiable landmarks available that coincide with the proposed Class B airspace boundaries needed to contain the large turbine-powered aircraft arriving/departing MSP, without expanding the proposed Class B airspace subareas beyond what is required to match existing landmarks. Since there have not been any containment problems in the areas where the commenter suggested boundary changes, the FAA has opted to retain the existing boundaries and limit the scope of this action as mentioned previously.

The Proposal

The FAA is proposing an amendment to Title 14 of the Code of Federal Regulations

(14 CFR) part 71 to modify the Minneapolis Class B airspace area. This action (depicted on the attached chart) proposes to expand the southern boundary of the existing Area D extensions by approximately 1 NM to the south, lower the floor of portions of existing Class B airspace Area E abeam both sides of the existing Area D extensions by 1,000 feet MSL, reduce the southern boundary of existing Area E located southeast of MSP by 1 NM and combine the remaining airspace of that portion of Area E with existing Area F, and move the eastern boundary of existing Area F from the GEP 160° radial to the GEP 158° radial between 24 NM and 30 NM from the I-MSP DME navigation aid. These proposed modifications would provide the minimum additional airspace needed to contain large turbine-powered aircraft conducting instrument procedures within the confines of Class B airspace.

Except for Areas A, B, and C, the proposed descriptions of all other Minneapolis Class B airspace subareas would be reconfigured, re-described, and realigned by geographic position in relation to the I-MSP DME antenna rather than the previous practice of combining geographically separate areas that share common Class B airspace altitude floors into one large, complex subarea description. The current MSP Class B airspace area consists of six subareas (A through F) whereas the proposed configuration would consist of ten subareas (A through J). The proposed revisions to the Minneapolis Class B airspace area, by subarea, are outlined below.

Area A. Area A is the surface area that extends upward from the surface to 10,000 feet MSL in the Class B airspace contained in the current Area A. The FAA is not proposing any changes to Area A.

Area B. Area B extends upward from 2,300 feet MSL to 10,000 feet MSL in the Class B airspace contained in the current Area B. The FAA is not proposing any changes to Area B.

Area C. Area C extends upward from 3,000 feet MSL to 10,000 feet MSL in the Class B airspace contained in the current Area C. The FAA is not proposing any changes to Area C.

Area D. Area D would be revised to include the airspace extending upward from 4,000 feet MSL to 10,000 feet MSL in the Class B airspace contained in the current Area D with the southern boundary of the Class B airspace extensions moved approximately 1 NM to the south. The expanded southern boundary of the new Area D extensions would ensure containment of aircraft flying the southern traffic pattern downwind legs for Runway 12R and 30L instrument procedures within Class B airspace.

Area E. Area E would be revised to include the airspace extending upward from 6,000 feet MSL to 10,000 feet MSL between the GEP 295° radial clockwise to the GEP 352° radial and the 20 NM to 30 NM arcs from the I-MSP DME. This new subarea would lower a portion of existing Class B airspace contained in the current Area E by 1,000 feet MSL to ensure containment of aircraft that require a longer time/distance to descend for sequence to closely spaced, adjacent instrument approaches to Runways 12L and 12R within Class B airspace.

Area F. Area F would include the airspace extending upward from 7,000 feet MSL to 10,000 feet MSL between the GEP 085° radial clockwise to the GEP 105° radial and the 20 NM to 30 NM arcs from the I-MSP DME. This new subarea would be established in existing Class B airspace contained in the current Area E.

Area G. Area G would include the airspace extending upward from 6,000 feet MSL to 10,000 feet MSL between the GEP 105° radial clockwise to the GEP 115° radial and the 20 NM to 30 NM arcs from the I-MSP DME. This new subarea would lower a portion of existing Class B airspace contained in the current Area E by 1,000 feet MSL to ensure containment of aircraft that require a longer time/distance to descend for sequence to closely spaced, adjacent instrument approaches to Runways 30L and 30R within Class B airspace.

Area H. Area H would include the airspace extending upward from 6,000 feet MSL to 10,000 feet MSL in the existing Class B airspace contained in current Area F and a portion of current Area E located southeast of MSP. This new subarea would expand the eastern boundary of the current Area F to the GEP 158° radial, reduce the southern boundary of the portion of current Area E to the 24 NM arc from the I-MSP DME, and lower the Class B airspace floor in the remaining portion of the current Area E to match the Class B airspace floor in the current Area F. The new subarea would ensure containment of aircraft flying the Runway 35 procedures and associated traffic patterns, as well as the aircraft being re-sequenced from Runway 35 to Runway 30L approaches, within Class B airspace.

Area I. Area I would include the airspace extending upward from 7,000 feet MSL to 10,000 feet MSL between the GEP 170° radial clockwise to the FCM 270° radial and the 20 NM to 30 NM arcs from the I-MSP DME. This new subarea would be established in existing Class B airspace contained in the current Area E.

Area J. Area J would include the airspace extending upward from 6,000 feet MSL to 10,000 feet MSL between the FCM 270° radial clockwise to the FCM 294° radial and the 20 NM to 30 NM arcs from the I-MSP DME. This new subarea would lower a portion of existing Class B airspace contained in the current Area E by 1,000 feet MSL to ensure containment of aircraft that require a longer time/distance to descend for sequence to closely spaced, adjacent instrument approaches to Runways 12L and 12R within Class B airspace.

Finally, this proposed action would update the Minneapolis-St. Paul International (Wold-Chamberlain) Airport reference point, the Gopher VORTAC, the Flying Cloud VOR/DME, and the Minneapolis-St. Paul International (Wold-Chamberlain) Airport DME geographic coordinates (latitude/longitude) to reflect current NAS data is reflected in the Minneapolis Class B airspace area legal description header. The geographic coordinates in this proposal are stated in degrees, minutes, and seconds based on North American Datum 83.

Implementation of these proposed modifications to the Minneapolis Class B airspace area would ensure containment of large turbine-powered aircraft within Class B airspace as required by FAA directive to enhance safety and the efficient management of aircraft operations in the Minneapolis, MN, terminal area.

Class B airspace areas are published in paragraph 3000 of FAA Order 7400.9W, Airspace Designations and Reporting Points, dated August 8, 2012, and effective September 15, 2012, which is incorporated by reference in 14 CFR section 71.1. The Class B airspace area listed in this document would be published subsequently in the Order.

Regulatory Evaluation Summary

Changes to Federal regulations must undergo several economic analyses. First, Executive Order 12866 and Executive Order 13563 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule.

Department of Transportation Order DOT 2100.5 prescribes policies and procedures for simplification, analysis, and review of regulations. If the expected cost impact is so minimal that a proposed or final rule does not warrant a full evaluation, this order permits that a statement to that effect and the basis for it be included in the preamble if a full regulatory evaluation of the cost and benefits is not prepared. Such a determination has been made for this proposed rule. The reasoning for this determination follows:

This action proposes to modify the Minneapolis, MN, Class B airspace area to contain large turbine-powered aircraft conducting published instrument procedures within Class B airspace, and reduce the potential for midair collisions. Given the current boundaries and changes in MSP traffic flows and aircraft descent profiles since the last restructuring, instrument flight rules (IFR) flights are not contained within Class B airspace. This amendment would restructure the airspace to ensure containment of these aircraft within Class B airspace which would reduce the potential for midair collisions in the terminal area. The amendment would also reduce controller workload by reducing the number of Class B airspace excursions.

The proposed restructuring accommodates aircraft approaches on flight paths that are currently close to the Class B airspace boundaries, by proposing these boundaries be moved slightly. Also, since the last restructuring of the airspace, the fleet mix has changed from more rapidly descending aircraft to turbojets with more “efficient wings” which require a longer time to descend. To better contain these new turbojets, the amendment proposes lowering the floor of the Class B airspace in the areas where arriving aircraft currently drop beneath the floor of Class B airspace so they would be contained. Also, the original Class B airspace design does not contain a portion of one of the FACs within the existing Class B airspace and consequently aircraft traveling along this FAC exit Class B airspace for part of the descent. The rule proposes moving the Class B boundary and lowering the floor in this portion of the airspace so that aircraft using this FAC would be contained within Class B airspace.

The FAA expects these changes would have little impact on VFR traffic as VFR aircraft would have the alternatives of flying under or over the redesigned Class B or through it with clearance from air traffic control. Although there was a comment expressing concern that the proposed modifications would restrict general aviation flight around the Twin Cities area, in particular near Airlake Airport (LVN), the FAA notes that LVN is a significant distance from the proposed modifications and there should be no impact to general aviation traffic in that area. Furthermore, the Ad Hoc Committee which was formed to review the Class B airspace proposal and provide feedback to the FAA reported most of the proposed changes would have little or no impact on the aviation community they represented, including non-participating VFR aircraft, with the exception of the cutout near Stanton Airfield. The committee did however indicate the proposed modifications would impact the Minnesota Soaring Club and Stanton Sport Aviation operations and provided six recommendations to alleviate the potential impact. Additionally, the FAA held several fact finding informal airspace meetings. As a result of the Ad Hoc Committee and informal airspace meeting inputs, the FAA incorporated those recommendations and comments that supported containment of IFR traffic within Class B airspace with an expected minimal impact on non-participatory VFR operations. The FAA anticipates the proposed modifications would continue to allow sufficient airspace for VFR operations in the vicinity of the Minneapolis Class B airspace area.

The expected outcome would be a minimal impact with positive net benefits, and a regulatory evaluation was not prepared. The FAA requests comments with supporting justification about the FAA determination of minimal impact.

The FAA has, therefore, determined that this proposed rule is not a “significant regulatory action” as defined in section 3(f) of Executive Order 12866, and is not “significant” as defined in DOT's Regulatory Policies and Procedures.

Initial Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

The proposed rule is expected to improve safety by redefining Class B airspace boundaries and would impose only minimal costs. It is expected to cause little impact on VFR traffic. VFR traffic that might be currently flying in airspace that would be re-designated as Class B airspace would continue to have the option of flying above or below the proposed Class B airspace or obtaining clearance to fly through. The proposed amendment would not require updating of materials outside the normal update cycle. Therefore, the expected outcome would be a minimal economic impact on small entities affected by this rulemaking action.

Therefore, the FAA certifies this proposed rule, if promulgated, would not have a significant impact on a substantial number of small entities. The FAA solicits comments regarding this determination. Specifically, the FAA requests comments on whether the proposed rule creates any specific compliance costs unique to small entities. Please provide detailed economic analysis to support any cost claims. The FAA also invites comments regarding other small entity concerns with respect to the proposed rule.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such the protection of safety, and does not operate in a manner that excludes imports that meet this objective. The statute also requires consideration of international standards and, where appropriate, that they be the basis for U.S. standards. The FAA has assessed the potential effect of this proposed rule and determined that it would have only a domestic impact and therefore no effect on international trade.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $143.1 million in lieu of $100 million. This proposed rule does not contain such a mandate; therefore, the requirements of Title II of the Act do not apply.

Environmental Review

This proposal will be subject to an environmental analysis in accordance with FAA Order 1050.1E, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of the Federal Aviation Administration Order 7400.9W, Airspace Designations and Reporting Points, dated August 8, 2012, and effective September 15, 2012, is amended as follows:

Paragraph 3000—Subpart B—Class B Airspace

* * * * *

AGL MN B Minneapolis, MN [Amended]

Minneapolis-St. Paul International (Wold-Chamberlain) Airport (Primary Airport)

(Lat. 44°52′55″ N., long. 93°13′18″ W.)

Gopher VORTAC

(Lat. 45°08′44″ N., long. 93°22′23″ W.)

Flying Cloud VOR/DME

(Lat. 44°49′31″ N., long. 93°26′34″ W.)

Minneapolis-St. Paul International (Wold-Chamberlain) Airport DME Antenna (I-MSP DME)

(Lat. 44°52′27″ N., long. 93°12′21″ W.)

Boundaries

Area A. That airspace extending upward from the surface to and including 10,000 feet MSL within a 6 NM radius of I-MSP DME.

Area B. That airspace extending upward from 2,300 feet MSL to and including 10,000 feet MSL within an 8.5 NM radius of I-MSP DME, excluding Area A previously described.

Area C. That airspace extending upward from 3,000 feet MSL to and including 10,000 feet MSL within a 12 NM radius of I-MSP DME, excluding Area A and Area B previously described.

Area D. That airspace extending upward from 4,000 feet MSL to and including 10,000 feet MSL within an area bounded by a line beginning at the intersection of the 20 NM arc of the I-MSP DME and the Gopher VORTAC 301°T/295°M radial; thence clockwise along the 20 NM arc of the I-MSP DME to the Gopher VORTAC 121°T/115°M radial; thence southeast along the Gopher VORTAC 121°T/115°M radial to the 30 NM arc of the I-MSP DME; thence clockwise along the 30 NM arc of the I-MSP DME to the Flying Cloud VOR/DME 124°T/123°M radial; thence northwest along the Flying Cloud VOR/DME 124°T/123°M radial to the 20 NM arc of the I-MSP DME; thence clockwise along the 20 NM are of the I-MSP DME to the Flying Cloud VOR/DME 295°T/294°M radial; thence northwest along the Flying Cloud VOR/DME 295°T/294°M radial to the 30 NM arc of the I-MSP DME; thence clockwise along the 30 NM arc of the I-MSP DME to the Gopher VORTAC 301°T/295°M radial; thence southeast along the Gopher VORTAC 301°T/295°M radial to the point of beginning, excluding Area A, Area B, and Area C previously described.

Area E. That airspace extending upward from 6,000 feet MSL to and including 10,000 feet MSL within an area bounded by a line beginning at the intersection of the 20 NM arc of the I-MSP DME and the Gopher VORTAC 301°T/295°M radial; thence clockwise along the 20 NM arc of the I-MSP DME to the Gopher VORTAC 358°T/352°M radial; thence north along the Gopher VORTAC 358°T/352°M radial to the 30 NM arc of the I-MSP DME; thence counterclockwise along the 30 NM arc of the I-MSP DME to the Gopher VORTAC 301°T/295°M radial; thence southeast along the Gopher VORTAC 301°T/295°M radial to the point of beginning.

Area F. That airspace extending upward from 7,000 feet MSL to and including 10,000 feet MSL within an area bounded by a line beginning at the intersection of the 20 NM arc of the I-MSP DME and the Gopher VORTAC 091°T/085°M radial; thence clockwise along the 20 NM arc of the I-MSP DME to the Gopher VORTAC 111°T/105°M radial; thence southeast along the Gopher VORTAC 111°T/105°M radial to the 30 NM arc of the I-MSP DME; thence counterclockwise along the 30 NM arc of the I-MSP DME to the Gopher VORTAC 091°T/085°M radial; thence west along the Gopher VORTAC 091°T/085°M radial to the point of beginning.

Area G. That airspace extending upward from 6,000 feet MSL to and including 10,000 feet MSL within an area bounded by a line beginning at the intersection of the 20 NM arc of the I-MSP DME and the Gopher VORTAC 111°T/105°M radial; thence clockwise along the 20 NM arc of the I-MSP DME to the Gopher VORTAC 121°T/115°M radial; thence southeast along the Gopher VORTAC 121°T/115°M radial to the 30 NM arc of the I-MSP DME; thence counterclockwise along the 30 NM arc of the I-MSP DME to the Gopher VORTAC 111°T/105°M radial; thence northwest along the Gopher VORTAC 111°T/105°M radial to the point of beginning.

Area H. That airspace extending upward from 6,000 feet MSL to and including 10,000 feet MSL within an area bounded by a line beginning at the intersection of the 20 NM arc of the I-MSP DME and the Flying Cloud VOR/DME 124°T/123°M radial; thence clockwise along the 20 NM arc of the I-MSP DME to the Gopher VORTAC 176°T/170°M radial; thence south along the Gopher VORTAC 176°T/170°M radial to the 30 NM arc of the I-MSP DME; thence counterclockwise along the 30 NM arc of the I-MSP DME to the Gopher VORTAC 164°T/158°M radial; thence north along the Gopher VORTAC 164°T/158°M radial to the 24 NM arc of the I-MSP DME; thence counterclockwise along the 24 NM arc of the I-MSP DME to the Flying Cloud VOR/DME 124°T/123°M radial; thence northwest along the Flying Cloud VOR/DME 124°T/123°M radial to the point of beginning.

Area I. That airspace extending upward from 7,000 feet MSL to and including 10,000 feet MSL within an area bounded by a line beginning at the intersection of the 20 NM arc of the I-MSP DME and the Gopher VORTAC 176°T/170°M radial; thence clockwise along the 20 NM arc of the I-MSP DME to the Flying Cloud VOR/DME 271°T/270°M radial; thence west along the Flying Cloud VOR/DME 271°T/270°M radial to the 30 NM arc of the I-MSP DME; thence counterclockwise along the 30 NM arc of the I-MSP DME to the Gopher VORTAC 176°T/170°M radial; thence north along the Gopher VORTAC 176°T/170°M radial to the point of beginning.

Area J. That airspace extending upward from 6,000 feet MSL to and including 10,000 feet MSL within an area bounded by a line beginning at the intersection of the 20 NM arc of the I-MSP DME and the Flying Cloud VOR/DME 271°T/270°M radial; thence clockwise along the 20 NM arc of the I-MSP DME to the Flying Cloud VOR/DME 295°T/294°M radial; thence northwest along the Flying Cloud VOR/DME 295°T/294°M radial to the 30 NM arc of the I-MSP DME; thence counterclockwise along the 30 NM arc of the I-MSP DME to the Flying Cloud 271°T/270°M radial; thence east along the Flying Cloud 271°T/270°M radial to the point of beginning.

Issued in Washington, DC, on February 6, 2013.
Gary A. Norek,
Manager, Airspace Policy and ATC Procedures Group.

BILLING CODE 4910-13-P

[FR Doc. 2013-03465 Filed 2-13-13; 8:45 am]

BILLING CODE 4910-13-C